NATIONAL SCIENCE FOUNDATION

Proposal Review Panel for Materials Research; Notice of Meeting

In accordance with the Federal Advisory Committee Act (Pub. L. 92-463, as amended), the National Science Foundation (NSF) announces the following meeting:

Name and Committee Code: Proposal Review Panel for Materials Research (DMR) (#1203)—Platform for the Accelerated Realization, Analysis, and Discovery of Interface Materials (PARADIM), Materials Innovation Platform (MIP), Cornell University, Ithaca, NY (Site Visit).

Date and Time:

August 1, 2018; 8:00 a.m.-8:00 p.m.

August 2, 2018; 8:00 a.m.-3:00 p.m.

Place: Cornell University, B07 Day Hall, Ithaca, NY 14853.

Type of Meeting: Part open.

Contact Person: Dr. Charles Ying, Program Director, MPS/DMR, National Science Foundation, 2415 Eisenhower Avenue, Room E 9467, Alexandria, VA 22314; Telephone: (703) 292-8428.

Purpose of Meeting: Site visit to provide advice and recommendations concerning further support of the MIP at Cornell University.

Agenda

Wednesday, August 1, 2018

8:00 a.m.-9:15 a.m. Closed—Executive Session

9:15 a.m.-11:30 a.m. Open—Review of PARADIM MIP

11:30 a.m.-1:00 p.m. Closed—Executive Session

1:00 p.m.-4:00 p.m. Open—Review of PARADIM MIP

4:00 p.m.-8:00 p.m. Closed—Executive Session

Thursday, August 2, 2018

8:00 a.m.-3:00 p.m. Closed—Executive Session

Reason for Closing: The work being reviewed during closed portions of the site review includes information of a proprietary or confidential nature, including technical information; financial data, such as salaries and personal information concerning individuals associated with PARADIM/MIP program. These matters are exempt under 5 U.S.C. 552b(c), (4) and (6) of the Government in the Sunshine Act.

Dated: June 25, 2018.
Crystal Robinson,
Committee Management Officer.

[FR Doc. 2018-13938 Filed 6-27-18; 8:45 am]

BILLING CODE 7555-01-P